DEPARTMENT OF HEALTH AND HUMAN SERVICES

Office of Inspector General

Program Exclusions: June 2006

AGENCY: Office of Inspector General, HHS.

ACTION: Notice of program exclusions.

During the month of June 2006, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTION
AHGOON, BARNEY | FLORENCE, AZ | 7/20/2006
AMEY, CONNIE | FOREST GROVE, OR | 7/20/2006
ANAYOOR, ABDUL | HOWELL, NJ | 7/20/2006
ANTOINE, MIRIAM | NEW ORLEANS, LA | 6/21/2004
ASHIEDU, CHUKWINWEIKE | WILMINGTON, DE | 7/20/2006
BADRYAN, ARUTYUN | AURORA, CO | 7/20/2006
BARCELO, LEMAY | MIAMI, FL | 7/20/2006
BOVA, SOFIA | ENCINO, CA | 7/20/2006
BROWN, TAMMY | SALINA, KS | 7/20/2006
COLINA, BARBARA | HIALEAH, FL | 7/20/2006
COUNTRYMAN, CHRISTAL | SALINA, KS | 7/20/2006
CUETARA, LUIS | MIAMI, FL | 7/20/2006
CUETARA, NERY | MIAMI, FL | 7/20/2006
DAY, MARNIE | SPOKANE VALLEY, WA | 7/20/2006
DELGADO, HUMBERTO | MIAMI, FL | 7/20/2006
DEONARINE, DENIS | DORAL, FL | 7/20/2006
DIAZ, ALBERTO | MIAMI, FL | 7/20/2006
DOMINGUEZ, GRACIELA | PURCELL, OK | 7/20/2006
DORSEY, CRICHELLE | NATCHITOCHES, LA | 7/20/2006
DUNCAN, HOWARD | SABETHA, KS | 7/20/2006
EDLIN, CHERYL | SPOKANE, WA | 7/20/2006
EVANS, ANNIS | GLIDE, OR | 7/20/2006
FAMILY HOME HEALTH SERVICES | BURLINGAME, CA | 7/8/2003
FERRER, CARLOS | MURRIETA, CA | 7/20/2006
FLETCHER, YVONNE | LULING, TX | 7/20/2006
FULLER, JANICE | MUSKOGEE, OK | 7/20/2006
HEVIA, ANTONIO | MIAMI, FL | 7/20/2006
HUYNH, THUY | SPRING, TX | 7/20/2006
KOELLERMEIER, KELLY | ALBANY, OR | 7/20/2006
KOMAKI, KEITH | ANAHEIM, CA | 7/20/2006
KUN, ERIC | SAN GABRIEL, CA | 7/20/2006
LEAVITT, KAREN | POCATELLO, ID | 7/20/2006
LOW, EUGENE | STOCKTON, CA | 7/20/2006
LUPO, DAVID | COLORADO SPRINGS, CO | 7/20/2006
MABERRY, BRENDA | LAWRENCE, KS | 7/20/2006
MAGDALENO, DANILO | MIAMI, FL | 7/20/2006
NEWSOME, BERMAZELL | COLLEGE PARK, GA | 7/20/2006
OLIVE, JUAN | HIALEAH, FL | 3/10/2006
ORTEGA, DIOMAR | MIAMI, FL | 2/24/2006
ORTEGA, SERGIO | HIALEAH, FL | 2/24/2006
POSTIGLIONE PHARMACY | PORT CHESTER, NY | 7/20/2006
POSTIGLIONE, JOHN | RAY BROOK, NY | 7/20/2006
RAMNARINE, DILIAH | SCHENECTADY, NY | 7/20/2006
REID, JAMES | JESUP, GA | 7/20/2006
ROSENSWEIG, SANFORD | BASTROP, TX | 7/20/2006
SARGSIAN, AROUTIOUN | TAFT, CA | 7/20/2006
SIMMONS, KEVIN | WALDORF, MD | 7/20/2006
SLATTEN, KARL | BOISE, ID | 7/20/2006
SMITH, LASHAN | TULSA, OK | 7/20/2006
SPRINGHART, WILLIAM | DAYTON, OH | 7/20/2006
STAMBULYAN, KARAPET | LOMPOC, CA | 7/20/2006
VU, NYOUA | SAN DIEGO, CA | 7/20/2006
WASHINGTON, LESLIE | WHITE CASTLE, LA | 7/20/2006
WASKOSKY, REBECCA | FARIBAULT, MN | 7/20/2006
FELONY CONVICTION FOR HEALTH CARE FRAUD
COLEMAN, JESSICA | PORTLAND, ME | 7/20/2006
DAGDAGAN, MYRNA | DELANO, CA | 7/20/2006
DAVIS, FELICE | W PALM BEACH, FL | 7/20/2006
DAVIS, MELINDA | HATFIELD, AR | 7/20/2006
DIXON, RANDALL | JOHNSON CITY, TN | 7/20/2006
DOUGLAS, LANITA | SEARCY, AR | 7/20/2006
FEOLE, KRYSTIN | PITTSFIELD, NH | 7/20/2006
FUDERICH, DAVID | PITTSBURGH, PA | 7/20/2006
GRODRIAN, BETTY | ODESSA, FL | 7/20/2006
HANDLEY, CHASTITY | LULING, TX | 7/20/2006
HARDYMAN, REBECCA | BATAVIA, OH | 7/20/2006
JEAN, MAGALIE | DAVENPORT, FL | 7/20/2006
MCAVOY, GUADALUPE | INDIO, CA | 7/20/2006
MCCLUNG, DARLETTA | PONCA CITY, OK | 7/20/2006
MCDONALD, SONIA | WEST PALM BEACH, FL | 7/20/2006
NEE, MELISSA | PORTLAND, ME | 7/20/2006
PANICHELLA, ANTHONY | AUDUBON, NJ | 7/20/2006
PHILLIPS, TINA | EAGLE BUTTE, SD | 7/20/2006
REGHANTI, MARGUERITE | TAMPA, FL | 7/20/2006
SCOTT, CHINA | HUMMELSTOWN, PA | 7/20/2006
STEELE, JAN | FAYETTEVILLE, AR | 7/20/2006
TODD, LAVENNA | SHAKER HEIGHTS, OH | 7/20/2006
TOULOUSE, JASON | MITCHELL, SD | 7/20/2006
WANG, YIH-ING | MILPITAS, CA | 7/20/2006
WAYCOTT, CAROL | LINCOLN, RI | 7/20/2006
YUMAN, GEMMA | SAN BERNARDINO, CA | 7/20/2006
FELONY CONTROLLED SUBSTANCE CONVICTION
ACREE, REBECCA | FT WORTH, TX | 7/20/2006
AGGROIA, ABHAY | WOODBRIGE, VA | 7/20/2006
ARMSTRONG, JANISE | JACKSONVILLE, FL | 7/20/2006
BAUM, TERI | FORT COLLINS, CO | 7/20/2006
BETHENCOURT, MAGALY | MIAMI, FL | 7/20/2006
BRYANT, TAMMY | LEWISBURG, TN | 7/20/2006
CHAPMAN, ALFRED | CLEARWATER, FL | 7/1/2006
COTTER, JOHN | SHREVEPORT, LA | 7/20/2006
CRAGUN, MICHAEL | PHOENIX, OR | 7/20/2006
CYNN, STEVEN | CHARLOTTE, NC | 7/20/2006
DEHART, GAIL | GOUVERNEUR, NY | 7/20/2006
DEVRIES, LISA | STAUNTON, IL | 7/20/2006
EVENSEN, VIKKI | GRAND JUNCTION, CO | 7/20/2006
FULTZ, PATRICIA | ZANESVILLE, OH | 7/20/2006
GANTT, LISA | LAKELAND, FL | 7/20/2006
GOUGALOFF, ROBERTO | HERMOSA BEACH, CA | 7/20/2006
HUGHES, LESLIE | SACRAMENTO, CA | 7/20/2006
MAZZEO, KIMBERLY | DELRAY BEACH, FL | 7/20/2006
QUINN, EILEEN | HOLLYWOOD, FL | 7/20/2006
RUBIO, JODIE | IRVING, TX | 7/20/2006
SCHULHOF, JERRY | PITTSBURGH, PA | 7/20/2006
TIMMONS, ARIF | SEATTLE, WA | 7/20/2006
TORRES, ZORIEL | ORLANDO, FL | 7/20/2006
TRIPLETT, RICHARD | SPRING, TX | 7/20/2006
WEAGLE, PAMELA | DOUGLASVILLE, GA | 7/20/2006
PATIENT ABUSE/NEGLECT CONVICTION
ADAMS, RYGENA | HONOLULU, HI | 7/20/2006
BALDERAS, CAROLINA | GUYMON, OK | 7/20/2006
CHRISTOR, RUTH | SHREVEPORT, LA | 7/20/2006
CRAIG, ANITA | FARRELL, PA | 7/20/2006
DEAN, CHARLES | SAN BERNARDINO, CA | 7/20/2006
DEL OLMO, MAYRA | MIAMI, FL | 7/20/2006
DODSON, JAMES | EUGENE, OR | 7/20/2006
DORMAN, DUANE | MITCHELL, SD | 7/20/2006
HAYWARD, JOSHUA | COUNCIL BLUFFS, IA | 7/20/2006
HYDE, JOANN | MURRAY, UT | 7/20/2006
JEMISON, STEPHEN | TUSCALOOSA, AL | 7/20/2006
JOHNSON, ERIK | SONOMA, CA | 7/20/2006
LOCKE, LAURA | SPRINFIELD, NH | 7/20/2006
MCCLARY, RHONDA | BALTIMORE, MD | 7/20/2006
MCFADDEN, LORRAINE | BUFFALO, NY | 7/20/2006
MCKEE, DEBBIE | DERBY, KS | 7/20/2006
MCLEAN, NAKITTA | BALTIMORE, MD | 7/20/2006
MONTGOMERY, JESSICA | CAMBRIDGE, MD | 7/20/2006
MOSHER, EMMA | PERRY, IA | 7/20/2006
PAMBIANCO, JOHN | TRUCKSVILLE, PA | 7/20/2006
PEDROZA, JOSE | PARAMOUNT, CA | 7/20/2006
PEMBLE, AARON | WOODWARD, IA | 7/20/2006
PENNER, COREY | NEWTON, KS | 7/20/2006
READING, ANTHONY | PANAMA CITY, FL | 7/20/2006
STEVENS, CHAD | BOONE, IA | 7/20/2006
WASHINGTON, GENECE | SHREVEPORT, LA | 7/20/2006
CONVICTION-OBSTRUCTION OF AN INVESTIGATION
HERNANDEZ RIVERA, ALFREDO | MIAMI, FL | 7/20/2006
LICENSE REVOCATION/SUSPENSION/SURRENDER
ACE, EDGAR | MIAMI, FL | 7/20/2006
ALDEN, CAROLINE | LAKELAND, FL | 7/20/2006
BALL, GREGORY | THOUSAND OAKS, CA | 7/20/2006
BARKER, GERTRUDE | LEXINGTON, KY | 7/20/2006
BEARDSLEY, JACK | DELRAY BEACH, FL | 7/20/2006
BEELER, BETH | PITTSBURGH, PA | 7/20/2006
BENNETT, JASON | ST AUGUSTINE, FL | 7/20/2006
BOX, STEVEN | MONTICELLO, FL | 7/20/2006
BOYD, LARRY | APACHE JUNCTION, AZ | 7/20/2006
BROOKS, BRENDA | SACRAMENTO, CA | 7/20/2006
BROWNING, GLORIA | BERRY, KY | 7/20/2006
BRYERTON, PATRICIA | LACONIA, NH | 7/20/2006
CALVERT, JAMES | CULLMAN, AL | 7/20/2006
CAMPAGNA, MARY | CORDOVA, TN | 7/20/2006
CARTWRIGHT, TERESA | LAUREL, MS | 7/20/2006
CHASE, JANET | SAN ANTONIO, TX | 7/20/2006
CHAVIERS, TRACY | ANNISTON, AL | 7/20/2006
CICCO, MICHELLE | IRWIN, PA | 7/20/2006
CLARK, TINA | CLEARFIELD, UT | 7/20/2006
COLEMAN, NORMA | NASHVILLE, TN | 7/20/2006
COLEMAN, WILLIAM | DALY CITY, CA | 7/20/2006
COMPTON, GEORGE | RUSSELLVILLE, AL | 7/20/2006
COOK, NANCY | ELDORADO, AR | 7/20/2006
DARR, WILLARD | ORANGE PARK, FL | 7/20/2006
DAVIS, DORINA | LAS VEGAS, NV | 7/20/2006
DEO, PARBHA | HAYWARD, CA | 7/20/2006
DIPINTO, DENNIS | CUMBERLAND, RI | 7/20/2006
DRISCOLL, RAYMOND | DRACUT, MA | 7/20/2006
ELLIOTT, ELIZABETH | KNOXVILLE, TN | 7/20/2006
ENGLE, BRENT | HARROGATE, TN | 7/20/2006
EVANS, ROBERLYN | MEMPHIS, TN | 7/20/2006
FARWELL, AILEEN | BIRMINGHAM, AL | 7/20/2006
FERNANDO, IRENE | HAYWARD, CA | 7/20/2006
FOULKE, DANNETTE | PADUCAH, KY | 7/20/2006
FRANKLIN, ZAYRA | ELK GROVE, CA | 7/20/2006
FREEH, NANCY | WINCHESTER, NH | 7/20/2006
GARCIA, MARQUES | BOTHELL, WA | 7/20/2006
GILVARRY, DANA | DAYTON, TX | 7/20/2006
GOICOECHEA, RUTH | BURLEY, ID | 7/20/2006
GREENLAW, KAREN | ORRINGTON, ME | 7/20/2006
GRIFFIN, MICHAEL | BELLEAIR BLUFFS, FL | 7/20/2006
GUTIERREZ, ROGER | SAN FRANCISCO, CA | 7/20/2006
HAMILTON, WILLIAM | SAN DIEGO, CA | 7/20/2006
HAMMONDS, PAMELA | JACKSONVILLE, FL | 7/20/2006
HANAFY, FOUAD | LIVINGSTON, CA | 7/20/2006
HENDERSON, RHONDA | CORBIN, KY | 7/20/2006
HOOVER, BRENDA | RIO LINDA, CA | 7/20/2006
HOSKIE, EVANGELINE | TUCSON, AZ | 7/20/2006
HUDSON, MICHELLE | RICHMOND, CA | 7/20/2006
INGRAM, TERESA | HAMPTON, TN | 7/20/2006
JOHNSON, ROSAMARIA | SAN ANTONIO, TX | 7/20/2006
JONES, REGINA | TUSCALOOSA, AL | 7/20/2006
JONES, ROBERT | VALLEJO, CA | 7/20/2006
KEMBLE, CHARLOTTE | TACOMA, WA | 7/20/2006
KENNEDY-RICHARD, KAREN | WORCESTER, MA | 7/20/2006
KLEINIK, KATHLEEN | TOMBSTONE, AZ | 7/20/2006
KOHLER, SUSAN | HEBER CITY, UT | 7/20/2006
KUON, RALPH | MONTEBELLO, CA | 7/20/2006
LARIOS, DANIEL | FRESNO, CA | 7/20/2006
LAROCK, JUDITH | ENGLEWOOD, CO | 7/20/2006
LARUE, LESLIE | OAK HARBOR, WA | 7/20/2006
LOCKHART, DIONA | JASPER, AL | 7/20/2006
LOPOTOSKY, MARCI | GLASGOW, KY | 7/20/2006
MAREK, CASSANDRA | HEWITT, TX | 7/20/2006
MATHEWS, CHRISTINA | LAS VEGAS, NV | 7/20/2006
MAXWELL, TIFFANY | RICHLAND, WA | 7/20/2006
MCCORMACK, SUSAN | TUSCUMBIA, AL | 7/20/2006
MCDIVITT, LOLA | HONOLULU, HI | 7/20/2006
MCMURPHEY, BRETT | GREAT FALLS, MT | 7/20/2006
MCPHAIL, DANIEL | NORTHFIELD, NH | 7/20/2006
MCPIKE, RONALD | BONAPARTE, IA | 7/20/2006
MEILLER, MORRIS | MOUNT AIRY, MD | 7/20/2006
MERZ, AMY | MURRAY, UT | 7/20/2006
MEYER, SHELLEY | DAPHNE, AL | 7/20/2006
MILDENHALL, BRYAN | WEST VALLEY CITY, UT | 7/20/2006
MILLER, CYNTHIA | LUTZ, FL | 7/20/2006
MILLER, ROBIN | SALISBURY, NC | 7/20/2006
MILLETT, DEBORAH | CAPE NEDDICK, ME | 7/20/2006
MILLS, KIMBERLEE | PROVO, UT | 7/20/2006
MIRANDA, JOYCE | TEMPE, AZ | 7/20/2006
MORALES, GLORIA | ATASCADERO, CA | 7/20/2006
MORAN, LAURA | TOOELE, UT | 7/20/2006
NADREAU, MARC | WOODLAND, CA | 7/20/2006
NICHOLS, KAY | HUNTINGTON, TX | 7/20/2006
NIPPER, SUE | TUCSON, AZ | 7/20/2006
NOBLE, CHRISTOPHER | KNOXVILLE, TN | 7/20/2006
NUGIEL, DALE | LOS ANGELES, CA | 7/20/2006
OLDHAM, RACHEAL | BELLEVUE, TN | 7/20/2006
OSBURN, MARGARET | SELMA, AL | 7/20/2006
OWENS, DERRICK | ATHENS, AL | 7/20/2006
PALCONETE, EMMA | SAN JOSE, CA | 7/20/2006
PEREZ, RONALD | LAKEWOOD, CA | 7/20/2006
PRASCHUNUS, MAUREEN | WARREN, RI | 7/20/2006
PROBY, CHARLES | PHOENIX, AZ | 7/20/2006
PUCKETT, KRISTI | FREDRICKSBURG, TX | 7/20/2006
RAMIREZ, MANUEL | FIREBAUGH, CA | 7/20/2006
REESE, LONNIE | WENATCHEE, WA | 7/20/2006
REILLY, TRACY | LOUISVILLE, KY | 7/20/2006
REYES, CANDELARIA | SANTA MARIA, CA | 7/20/2006
ROBERTS, TIMOTHY | KINGMAN, AZ | 7/20/2006
RODMAN, ANNIE | BULLHEAD CITY, AZ | 7/20/2006
RUSSELL, KATHERINE | LOYALTON, CA | 7/20/2006
SACHEK, LEANN | WASHINGTON, PA | 7/20/2006
SADEGHI, FIROOZ | GLENDALE, CA | 7/20/2006
SANTIAGO, JOHN | JACKSON HEIGHTS, NY | 7/20/2006
SARACENI, ESTELLA | DORCHESTER, MA | 7/20/2006
SCHNEIDER, BRUCE | MATAWAN, NJ | 7/20/2006
SCOTT, LISA | MERIDIAN, MS | 7/20/2006
SINGLETON, PAMELA | MOBILE, AL | 7/20/2006
SMITH, DREW | TACOMA, WA | 7/20/2006
SMITH, JEANETTA | PARAMOUNT, CA | 7/20/2006
SPRATLEY, DOUGLAS | TEMPE, AZ | 7/20/2006
SPRINGER, JACKIE | OVERLAND PARK, KS | 7/20/2006
STANTON, SHEILA | MESA, AZ | 7/20/2006
SWINGLE, KERMIT | BOULDER CITY, NV | 7/20/2006
TATE, BONNIE | BIRMINGHAM, AL | 7/20/2006
TAYLOR, DULCIE | BARRE, VT | 7/20/2006
THOMPSON, CARLA | GOSHEN, VA | 7/20/2006
THRASHER, KIM | BIRMINGHAM, AL | 7/20/2006
TOMLINSON, KARYN | YERINGTON, NV | 7/20/2006
TRETBAR, LAWRENCE | SHAWNEE MISSION, KS | 7/20/2006
TRUMP, CHRISTINA | MOORESVILLE, NC | 7/20/2006
UNDERWOOD, CARLA | MOUNT PLEASANT, TN | 7/20/2006
WALRAVEN, MISTI | ARAB, AL | 7/20/2006
WERMAGER, ANDREA | PALMER, AK | 7/20/2006
WILCOWSKI, LEANN | VANCOUVER, WA | 7/20/2006
WILLIAMS, JACQUELINE | SAINT AUGUSTINE, FL | 7/20/2006
WOOD, MARINA | CHULA VISTA, CA | 7/20/2006
WORTHINGTON, FRANK | TUCSON, AZ | 7/20/2006
ZELTZER, JUDY | HERNANDO, FL | 7/20/2006
FRAUD/KICKBACKS/PROHIBITED ACTS/SETTLEMENT AGREEMENT
AIKEN, STUART | OLNEY, MD | 5/5/2006
DEVALDES, GREGORY | VIRGINIA BEACH, VA | 4/28/2006
KEATLEY, HUGH | BECKLEY, WV | 5/12/2006
MOSHER, DENNIS | CHEYENNE, WY | 8/12/2005
WEBBER, TRACY | MABSCOTT, WV | 4/28/2006
OWNED/CONTROLLED BY EXCLUDED/CONVICTED INDIVIDUAL+
EARTHMED INC | SPARTANBURG, SC | 7/20/2006
HOANG T. TRAN, DDS, INC | HANFORD, CA | 7/20/2006
MAGALY BETHENCOURT MEDICAL SERVICES, INC | MIAMI, FL | 7/20/2006
PACIFIC CARE MEDICAL SUPPLY, INC | LONG BEACH, CA | 7/20/2006
RONALD P. MCPIKE, D. O., P. C | BONAPARTE, IA | 7/20/2006
DEFAULT ON HEAL LOAN
BUI, KHAI | SPRINGFIELD, MA | 7/20/2006
KALTER, HOWARD | NAPLES, FL | 7/20/2006
KANTRO, SCOTT | POUND RIDGE, NY | 7/20/2006
LANE, ABBIE | BROOKLYN, NY | 7/20/2006
RICHARD, PATTI | HAVERHILL, MA | 7/20/2006
ROSEN, MICHAEL | TEMPE, AZ | 7/20/2006
SCHWARTZ, GREGG | AMBLER, PA | 7/20/2006
TAN, DANNY | SALINAS, CA | 7/20/2006

Dated: June 11, 2006.
Maureen R. Byer,
Director, Exclusions Staff, Office of Inspector General.

[FR Doc. E6-11330 Filed 7-17-06; 8:45 am]

BILLING CODE 4152-01-P